U.S. POSTAL SERVICE

39 CFR Part 111

Unpaid and Shortpaid Information-Based Indicia Postage Meters and PC Postage Products—Comment Period Extended

AGENCY: Postal Service™.

ACTION: Proposed rule; extension of comment period.

SUMMARY: On November 18, 2009, the Postal Service published in the Federal Register (74 FR 59494) a proposed rule to implement revenue assurance procedures for information-based indicia (IBI) postage generated from postage evidencing systems. An automated process will be implemented to detect mailpieces with unpaid or shortpaid IBI postage.

Comments were originally requested by December 18, 2009. Based on feedback from the mailing community, the Postal Service has decided to extend the current comment period an additional 60 days.

DATES: Comments on this proposed rule must be received on or before February 17, 2010.

ADDRESSES: Mail or deliver written comments to the Manager, Mailing Standards, U.S. Postal Service, 475 L'Enfant Plaza, SW., Room 3436, Washington DC 20260-3436. You may inspect and photocopy all written comments, Monday through Friday, 9 a.m. to 4 p.m., USPS Headquarters Library, 475 L'Enfant Plaza, SW., 11th Floor N, Washington, DC, 20260.

FOR FURTHER INFORMATION CONTACT: C. Scot Atkins, 703-280-7841 or Carol A. Lunkins, 202-268-7262.

Stanley F. Mires,
Chief Counsel, Legislative.

[FR Doc. E9-30867 Filed 12-29-09; 8:45 am]

BILLING CODE 7710-12-P